U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on January 28, 2021 on “U.S.-China Relations at the Chinese Communist Party's Centennial.”

DATES: The hearing is scheduled for Thursday, January 28, 2021, 10:30 a.m.

ADDRESSES: This hearing will be held with panelists and Commissioners participating in-person or online via videoconference. Members of the audience will be able to view a live webcast via the Commission's website at www.uscc.gov. Also, please check the Commission's website for possible changes to the hearing schedule. Reservations are not required to attend the hearing.

FOR FURTHER INFORMATION CONTACT: Any member of the public seeking further information concerning the hearing should contact Jameson Cunningham, 444 North Capitol Street NW, Suite 602, Washington, DC 20001; via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the first public hearing the Commission will hold during its 2021 report cycle. The hearing will evaluate the state of the U.S.-China relationship, the Chinese Communist Party's goals in the year of its centennial, and the implications for the United States. The first panel will offer a net assessment of the current state of U.S.-China political, economic, and security relations heading into 2021. The second panel will examine key takeaways from the Fifth Plenum and other recent high-level CCP conferences and statements. The third panel will consider the implications for the United Sates of the trend lines in China's politics, economy, security policy, and foreign affairs.

The hearing will be co-chaired by Chairman Carolyn Bartholomew and Commissioner Roy Kamphausen. Any interested party may file a written statement by January 28, 2021 by transmitting to the contact above. A portion the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 7, 2021.
Daniel W. Peck,
Executive Director, U.S.-China Economic and Security Review Commission.

[FR Doc. 2021-00519 Filed 1-12-21; 8:45 am]

BILLING CODE 1137-00-P